Proclamation 10281 of October 8, 2021

Columbus Day, 2021

By the President of the United States of America

A Proclamation

More than 500 years ago, after securing the support of Queen Isabella I and King Ferdinand II, Christopher Columbus launched the Niña, the Pinta, and the Santa Maria from the coast of Spain in 1492. While he intended to end his quest in Asia, his 10-week journey instead landed him on the shores of the Bahamas, making Columbus the first of many Italian explorers to arrive in what would later become known as the Americas.

Many Italians would follow his path in the centuries to come, risking poverty, starvation, and death in pursuit of a better life. Today, millions of Italian Americans continue to enrich our country's traditions and culture and make lasting contributions to our Nation—they are educators, health care workers, scientists, first responders, military service members, and public servants, among so many other vital roles.

Today, we also acknowledge the painful history of wrongs and atrocities that many European explorers inflicted on Tribal Nations and Indigenous communities. It is a measure of our greatness as a Nation that we do not seek to bury these shameful episodes of our past—that we face them honestly, we bring them to the light, and we do all we can to address them. For Native Americans, western exploration ushered in a wave of devastation: violence perpetrated against Native communities, displacement and theft of Tribal homelands, the introduction and spread of disease, and more. On this day, we recognize this painful past and recommit ourselves to investing in Native communities, upholding our solemn and sacred commitments to Tribal sovereignty, and pursuing a brighter future centered on dignity, respect, justice, and opportunity for all people.

In commemoration of Christopher Columbus's historic voyage 529 years ago, the Congress, by joint resolution of April 30, 1934, and modified in 1968 (36 U.S.C. 107), as amended, has requested the President proclaim the second Monday of October of each year as “Columbus Day.” Today, let this day be one of reflection—on America's spirit of exploration, on the courage and contributions of Italian Americans throughout the generations, on the dignity and resilience of Tribal Nations and Indigenous communities, and on the work that remains ahead of us to fulfill the promise of our Nation for all.

NOW, THEREFORE, I, JOSEPH R. BIDEN JR., President of the United States of America, do hereby proclaim October 11, 2021, as Columbus Day. I direct that the flag of the United States be displayed on all public buildings on the appointed day in honor of our diverse history and all who have contributed to shaping this Nation.

IN WITNESS WHEREOF, I have hereunto set my hand this eighth day of October, in the year of our Lord two thousand twenty-one, and of the Independence of the United States of America the two hundred and forty-sixth.

[FR Doc. 2021-22514

Filed 10-13-21; 8:45 am]

Billing code 3395-F2-P